DEPARTMENT OF LABOR

Employment and Training Administration

[TA-W-50,312]

Intertape Polymer Group, Menasha Division, Menasha, WI; Notice of Revised Determination on Reconsideration

By application of February 20, 2003, the company and the Paper, Allied-Industrial, Chemical and Energy Workers International Union (PACE) Local 7-0727 requested administrative reconsideration regarding the Department's Negative Determination Regarding Eligibility to Apply for Worker Adjustment Assistance, applicable to the workers of the subject firm.

The initial investigation resulted in a negative determination issued on October 11, 2002, based on the finding that imports of water activated sealing tape did not contribute importantly to worker separations at the subject firm plant. The denial notice was published in the Federal Register on February 6, 2003 (68 FR 6210).

To support the request for reconsideration, the company supplied additional information to supplement that which was gathered during the initial investigation. Upon further review, it was revealed that the company produced several types of “carton sealing tape,” including water activated tape. Increased reliance on company imports of pressure sensitive tape, a type of carton sealing tape, was originally revealed in an investigation of a subject firm affiliate: specifically, Intertape Polymer Group, Central Products Company, Richmond, Kentucky (TA-W-40,783). As a result of this discovery, the Department has determined that the company's increased reliance on imports of pressure sensitive tape (“like or directly competitive” with what the subject plant produced) may be established as replacing subject firm production, thus contributing to the layoffs at the subject plant.

Conclusion

After careful review of the additional facts obtained on reconsideration, I conclude that increased imports of articles like or directly competitive with those produced at Intertape Polymer Group, Menasha Division, Menasha, Wisconsin, contributed importantly to the declines in sales or production and to the total or partial separation of workers at the subject firm. In accordance with the provisions of the Act, I make the following certification:

All workers of Intertape Polymer Group, Menasha Division, Menasha, Wisconsin, who became totally or partially separated from employment on or after December 9, 2001 through two years from the date of this certification, are eligible to apply for adjustment assistance under Section 223 of the Trade Act of 1974.

Signed in Washington, DC this 14th day of April 2003.
Edward A. Tomchick,
Director, Division of Trade Adjustment Assistance.

[FR Doc. 03-10136 Filed 4-23-03; 8:45 am]

BILLING CODE 4510-30-P